DEPARTMENT OF ENERGY

Federal Energy Regulatory Commission

[Project No. 5679-041]

Energy Stream, LLC; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 5679-041.

c. Date Filed: July 15, 2022.

d. Applicant: Energy Stream, LLC.

e. Name of Project: M.S.C. Power Project.

f. Location: On the Quinebaug River in Windham County, Connecticut. The project does not occupy any federal land.

g. Filed Pursuant to: Federal Power Act, 16 U.S.C. 791(a)-825(r).

h. Applicant Contact: Mr. Rolland Zeleny, Energy Stream, LLC, 18 Washington St., Suite 18, Canton, MA 02021; Phone at (603) 498-8089, or email at indigoharbor@yahoo.com.

i. FERC Contact: Robert Haltner at (202) 502-8612, or robert.haltner@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 13, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: M.S.C. Power Project (P-5679-041).

m. The application is not ready for environmental analysis at this time.

n. Project Description: The existing M.S.C. Project consists of: (1) an approximately 256-foot-long, 14.3-foot-high granite block and concrete dam that includes: (a) an approximately 35-foot-long headgate structure with four aluminum sluice gates that are each 4 feet wide by 10 feet high; (b) a 109-foot-long granite block spillway section with a concrete cap, 1.6-foot-high flashboards, and a crest elevation of 288.74 feet mean sea level (msl) at the top of the flashboards; and (c) a 112-foot-long auxiliary concrete gravity spillway section with a crest elevation of 288.94 feet msl; (2) an impoundment with a surface area of 4.7 acres at an elevation of 288.74 feet msl; (3) an approximately 30-foot-wide, 25-foot-long stone and concrete forebay downstream of the headgate structure; (4) an intake structure at the downstream end of the forebay with a 19-foot-wide, 16.5-foot-high trashrack with 1.6-inch clear bar spacing; (5) a 2-foot-wide, 3-foot-high trash sluice gate adjacent to the trashrack; (6) a 21-foot-long, 33-foot-wide steel and reinforced concrete powerhouse containing a 400-kilowatt (kW) Kaplan turbine-generator unit and a 112-kW Francis turbine-generator unit, for a total installed capacity of 512 kW; (7) a 39-foot-long, 28-foot-wide, 10-foot-deep tailrace; (8) 50-foot-long, 2.4-kilovolt (kV) lead lines that connect the generators to three 2.4/23-kV step-up transformers, and a 200-foot-long, 13.8-kV transmission line that connects the transformers to the regional grid; and (9) appurtenant facilities. The project creates an approximately 65-foot-long bypassed reach of the Quinebaug River.

Article 401 of the current license requires Energy Stream, LLC to operate the project in a run-of-river mode, such that project outflow approximates inflow. Energy Stream, LLC maintains the impoundment at the flashboard crest elevation of 288.74 feet msl. To protect aquatic resources, Article 26 of the current license requires Energy Stream, LLC to release a continuous minimum flow of 144 cubic feet per second (cfs) or inflow to the impoundment, whichever is less, as measured immediately below the tailrace. Article 402 of the current license specifies seasonal minimum flow releases to the downstream reach when refilling the impoundment following emergency or maintenance drawdowns, including 90 percent of impoundment inflow.

Article 404 of the current license requires Energy Stream, LLC to provide upstream and downstream passage for American eels. Upstream passage for American eels is provided from June 15 to September 1 by netting placed over the dam and ramps extending to the crest of the flashboards. Downstream American eel passage is provided from September 1 through November 15, on rainy nights and three nights after rain events through a notch in the flashboards located on the west side of the spillway, and a low-level outlet gate.

The minimum and maximum hydraulic capacities of the powerhouse are 40 and 545 cfs, respectively. The average annual generation of the project was approximately 2,885 megawatt-hours from 2017 through 2021.

Energy Stream, LLC is not proposing any changes to project facilities or operation.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-5679). For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural Schedule: The application will be processed according to the following preliminary schedule. Revisions to the schedule will be made as appropriate.

Issue Deficiency Letter (if necessary) September 2022

Request Additional Information September 2022

Issue Scoping Document 1 for comments December 2022

Request Additional Information (if necessary) December 2022

Issue Acceptance Letter December 2022

Issue Scoping Document 2 (if necessary) February 2023

Issue Notice of Ready for Environmental Analysis February 2023

q. Final amendments to the application must be filed with the Commission no later than 30 days from the issuance date of the notice of ready for environmental analysis.

Dated: July 28, 2022.
Kimberly D. Bose,
Secretary.

[FR Doc. 2022-16592 Filed 8-2-22; 8:45 am]

BILLING CODE 6717-01-P